NUCLEAR REGULATORY COMMISSION

[Docket No. 50-354]

PSEG Nuclear LLC Atlantic City Electric Company; Notice of Issuance of Amendment to Facility Operating License

The U.S. Nuclear Regulatory Commission (Commission) has issued Amendment No. 131 to Facility Operating License No. (FOL) NPF-57 issued to PSEG Nuclear LLC, which revised the FOL and Technical Specifications for operation of the Hope Creek Generating Station, located in Salem County, New Jersey. The amendment is effective as of the date of issuance.

The amendment modified the FOL and Technical Specifications to increase the licensed power level by approximately 1.4% from 3,293 megawatts (MW) thermal to 3,339 MW thermal. The changes are anticipated to increase the unit's net electrical output by 15 MW electric. The changes are based on the installation of the CE Nuclear Power LLC Crossflow ultrasonic flow measurement system and its ability to achieve increased accuracy in measuring feedwater flow.

The application for the amendment complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License and Opportunity for a Hearing in connection with this action was published in the Federal Register on January 25, 2001 (66 FR 7814). No request for a hearing or petition for leave to intervene was filed following this notice.

The Commission has prepared an Environmental Assessment related to the action and has determined not to prepare an environmental impact statement. Based upon the environmental assessment, the Commission has concluded that the issuance of the amendment will not have a significant effect on the quality of the human environment (66 FR 33583).

For further details with respect to the action see (1) the application for amendment dated December 1, 2000, as supplemented by letters dated February 12, May 7, and May 14, 2001, (2) Amendment No. 131 to License No. NPF-57; (3) the Commission's related Safety Evaluation; and (4) the Commission's Environmental Assessment. Documents may be examined, and/or copied for a fee, at the NRC's Public Document Room, located at One White Flint North, 11555 Rockville Pike (first floor), Rockville, Maryland. Publicly available records will be accessible electronically from the Agencywide Documents Access and Management Systems (ADAMS) Public Electronic Reading Room on the internet at the NRC Web site, http://www.nrc.gov/NRC/ADAMS/index.html. If you do not have access to ADAMS or if there are problems in accessing the documents located in ADAMS, contact the NRC Public Document Room Reference staff at 1-800-397-4209, 301-415-4737 or by email to pdr@nrc.gov.

Dated at Rockville, Maryland, this 30th day of July 2001.
For the Nuclear Regulatory Commission.
Richard B. Ennis,
Project Manager, Section 2, Project Directorate I, Division of Licensing Project Management, Office of Nuclear Reactor Regulation.

[FR Doc. 01-19415 Filed 8-2-01; 8:45 am]

BILLING CODE 7590-01-P